ENVIRONMENTAL PROTECTION AGENCY

48 CFR Part 1517

[EPA-HQ-OMS-2024-0148; FRL-12938-03-OMS]

Environmental Protection Agency Acquisition Regulation (EPAAR); Special Contracting Methods; Options; Contracts; Withdrawal

AGENCY: Environmental Protection Agency (EPA).

ACTION: Withdrawal of direct final rule.

SUMMARY: Due to the receipt of adverse comments on this action, the EPA is withdrawing the direct final rule “Environmental Protection Agency Acquisition Regulation (EPAAR); Special Contracting Methods; Options; Contracts,” published on September 22, 2025.

DATES: Effective December 2, 2025, the EPA withdraws the direct final rule published at 90 FR 45335 on September 22, 2025

FOR FURTHER INFORMATION CONTACT: Joshua Gardner, Policy Division, Policy Compliance Branch, Environmental Protection Agency, 1200 Pennsylvania Ave. NW, Washington, DC 20460; telephone number: 202-250-8739; email address: gardner.joshua@epa.gov.

SUPPLEMENTARY INFORMATION: Due to the receipt of adverse comments on this action, the Agency is withdrawing the direct final rule “Environmental Protection Agency Acquisition Regulation (EPAAR); Special Contracting Methods; Options; Contracts,” published on September 22, 2025. We stated in that direct final rule that if we received adverse comment by October 31, 2025, the direct final rule would not take effect and we would publish a timely withdrawal in the Federal Register. Because the EPA subsequently received adverse comment on that direct final rule, we are withdrawing the direct final rule.

Joan Rogers,

Acting Director, Office of the Chief Procurement Officer.

List of Subjects in 48 CFR Part 1517

Environmental protection, Government procurement.

PART 1517—SPECIAL CONTRACTING METHODS

Accordingly, effective December 2, 2025, the EPA withdraws the direct final rule amending 48 CFR 1517.204 which published at 90 FR 45335 on September 22, 2025.

[FR Doc. 2025-21713 Filed 11-28-25; 8:45 am]

BILLING CODE 6560-50-P